DEPARTMENT OF AGRICULTURE

Forest Service

Interim Direction on Target Range Permit Actions

AGENCY: Forest Service, USDA.

ACTION: Notice of availability of agency directives.

SUMMARY: The Forest Service is issuing interim directives to provide updated internal administrative direction to guide its employees in the processing of proposals and applications for target ranges and in the authorization, administration, and monitoring of target ranges on National Forest System lands. Target ranges include pistol, rifle, shotgun, trap, skeet, and archery ranges. The interim directives also provide guidance on the preparation of environmental stewardship plans and safety plans for target range proposals. The interim directives are issued to Forest Service Manual (FSM) Chapters 2330, Publicly Managed Recreation Opportunities, 2340, Privately Managed Recreation Opportunities, and 2720, Special Uses Administration, and to Forest Service Handbook (FSH) 2709.11, Special Uses Handbook, Chapter 40, Special Uses Administration, as ID numbers 2330-2000-3, 2340-2000-4. 2720-2000-2, and 2709.11-2000-1.

DATES: The interim directives are effective August 8, 2000.

ADDRESSES: The interim directives are available electronically from the Forest Service via the World Wide Web/Internet at http://www.fs.fed.us/im/directives. Single paper copies of the interim directives are available by contacting the Forest Service, USDA, Recreation, Heritage, and Wilderness Resources Management Staff (Mail Stop 1125), P. O. Box 96090, Washington, DC 20090-6090 (telephone 202-205-1706).

FOR FURTHER INFORMATION CONTACT: Jim Miller, Recreation, Heritage, and Wilderness Resources Management Staff (202-205-1313).

Dated: August 2, 2000.
Hilda Diaz-Soltero,
Associate Chief, Forest Service.

[FR Doc. 00-19998 Filed 8-7-00; 8:45 am]

BILLING CODE 3410-11-P